DEPARTMENT OF ENERGY

Federal Energy Regulatory Commission

Combined Notice of Filings

Take notice that the Commission has received the following Natural Gas Pipeline Rate and Refund Report filings:

Filings Instituting Proceedings

Docket Numbers: RP24-949-000.

Applicants: LA Storage, LLC.

Description: 4(d) Rate Filing: Filing of Negotiated Rate, Conforming Rate Schedule FT Agrmt to be effective 8/1/2024.

Filed Date: 8/1/24.

Accession Number: 20240801-5155.

Comment Date: 5 p.m. ET 8/13/24.

Docket Numbers: RP24-950-000.

Applicants: Equitrans, L.P.

Description: 4(d) Rate Filing: Negotiated Rate Capacity Release Agreements—08/01/2024 to be effective 8/1/2024.

Filed Date: 8/1/24.

Accession Number: 20240801-5165.

Comment Date: 5 p.m. ET 8/13/24.

Docket Numbers: RP24-951-000.

Applicants: Gulf Run Transmission, LLC.

Description: 4(d) Rate Filing: Updates Related to Transporter's Use to be effective 9/1/2024.

Filed Date: 8/1/24.

Accession Number: 20240801-5171.

Comment Date: 5 p.m. ET 8/13/24.

Docket Numbers: RP24-952-000.

Applicants: El Paso Natural Gas Company, L.L.C.

Description: 4(d) Rate Filing: Negotiated Rate Agreement Update (Hartree 610670 Aug 5 2024) to be effective 8/5/2024.

Filed Date: 8/1/24.

Accession Number: 20240801-5203.

Comment Date: 5 p.m. ET 8/13/24.

Docket Numbers: RP24-953-000.

Applicants: Gulf South Pipeline Company, LLC.

Description: 4(d) Rate Filing: Amendment to Neg Rate Agmt (Aethon III 53154) to be effective 8/1/2024.

Filed Date: 8/1/24.

Accession Number: 20240801-5206.

Comment Date: 5 p.m. ET 8/13/24.

Docket Numbers: RP24-954-000.

Applicants: Gulf South Pipeline Company, LLC.

Description: 4(d) Rate Filing: Amendment to Neg Rate Agmt (Aethon United 52454) (8/1/2024) to be effective 8/1/2024.

Filed Date: 8/1/24.

Accession Number: 20240801-5209.

Comment Date: 5 p.m. ET 8/13/24.

Docket Numbers: RP24-955-000.

Applicants: Gulf South Pipeline Company, LLC.

Description: 4(d) Rate Filing: Cap Rel Neg Rate Agmt (Osaka 46429 to Spotlight 58414) to be effective 8/1/2024.

Filed Date: 8/1/24.

Accession Number: 20240801-5219.

Comment Date: 5 p.m. ET 8/13/24.

Docket Numbers: RP24-956-000.

Applicants: MoGas Pipeline LLC.

Description: 4(d) Rate Filing: Spire MoGas Pipeline Name Change n Cap Award Filing to be effective 9/1/2024.

Filed Date: 8/1/24.

Accession Number: 20240801-5224.

Comment Date: 5 p.m. ET 8/13/24.

Docket Numbers: RP24-957-000.

Applicants: Wyoming Interstate Company, L.L.C.

Description: 4(d) Rate Filing: Fuel_LU Quarterly Update Filing Eff Sept 2024 to be effective 9/1/2024.

Filed Date: 8/1/24.

Accession Number: 20240801-5226.

Comment Date: 5 p.m. ET 8/13/24.

Docket Numbers: RP24-958-000.

Applicants: Anthony Forest Products Company, LLC, Resolute El Dorado, Inc.

Description: Joint Petition for Limited Waiver of Capacity Release Regulations, et al. of Resolute El Dorado Inc., et al.

Filed Date: 8/1/24.

Accession Number: 20240801-5250.

Comment Date: 5 p.m. ET 8/13/24.

Docket Numbers: RP24-959-000.

Applicants: NEXUS Gas Transmission, LLC.

Description: 4(d) Rate Filing: Negotiated Rates—Castleton 860576 eff 8-1-24 to be effective 8/1/2024.

Filed Date: 8/1/24.

Accession Number: 20240801-5256.

Comment Date: 5 p.m. ET 8/13/24.

Docket Numbers: RP24-960-000.

Applicants: Algonquin Gas Transmission, LLC.

Description: 4(d) Rate Filing: Negotiated Rates—Eversource to Emera Energy eff 8-2-24 to be effective 8/2/2024.

Filed Date: 8/2/24.

Accession Number: 20240802-5025.

Comment Date: 5 p.m. ET 8/14/24.

Docket Numbers: RP24-961-000.

Applicants: El Paso Natural Gas Company, L.L.C.

Description: 4(d) Rate Filing: Negotiated Rate Agreement Update (AEPCO Aug-Sept 2024) to be effective 8/5/2024.

Filed Date: 8/2/24.

Accession Number: 20240802-5061.

Comment Date: 5 p.m. ET 8/14/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 2, 2024.
Debbie-Anne A. Reese,
Acting Secretary.

[FR Doc. 2024-17657 Filed 8-8-24; 8:45 am]

BILLING CODE 6717-01-P